FEDERAL COMMUNICATIONS COMMISSION

47 CFR Part 27

[WT Docket No. 99-168; DA 00-450, and DA 00-1680]

Service Rules for the 746-764 and 776-794 MHz Bands

AGENCY: Federal Communications Commission.

ACTION: Final rule; correction.

SUMMARY: On January 20, 2000, the Commission published in the Federal Register a document, which established service rules governing the initial assignment of licenses, by competitive bidding, and the subsequent regulatory treatment of commercial services to be provided on the 746-764 and 776-794 MHz bands. This document corrects errors contained in that decision.

DATES: Effective September 21, 2000.

FOR FURTHER INFORMATION CONTACT: Jane Phillips, 202-418-1310.

SUPPLEMENTARY INFORMATION: The Commission published a First Report and Order in the Federal Register of January 20, 2000 (65 FR 3139, January 20, 2000), FR Doc. 00-1332. The Commission now: (1) Amends § 27.13(b) by correcting the date as of which a license issued for the 747-762 MHz and 777-792 MHz bands will terminate from January 1, 2014, to January 1, 2015; and (2) corrects the phrase 30 days to 31 days; in § 27.66(b).

Accordingly, the publication on January 20, 2000 of the final regulations which were the subject of FR Doc 00-1332, is corrected as follows:

§ 27.13 [Corrected]

1. On page 3146, in the second column, in § 27.13, paragraph (b), in line 4, correct “January 1, 2014,” to read “January 1, 2015.”

§ 27.66 [Corrected]

2. On page 3149, in the second column, in § 27.66, paragraph (b), in line 8, correct “30 days” to read “31 days.”

Federal Communications Commission.
Magalie Roman Salas,
Secretary.

[FR Doc. 00-21343 Filed 9-20-00; 8:45 am]

BILLING CODE 6712-01-P